NUCLEAR REGULATORY COMMISSION

[Docket No. 030-31988]

Notice of Availability of Environmental Assessment and Finding of No Significant Impact for Termination of Byproduct Materials License No. 04-29022-01 and Unrestricted Release of the Department of Commerce, National Oceanic and Atmospheric Administration's Facility in La Jolla, California

AGENCY: Nuclear Regulatory Commission.

ACTION: Issuance of environmental assessment and finding of no Significant impact for license amendment.

FOR FURTHER INFORMATION CONTACT: Jack E. Whitten, Chief, Nuclear Materials Safety Branch B, Division of Nuclear Materials Safety, Region IV, U.S. Nuclear Regulatory Commission, Arlington, Texas 76011; telephone (817) 860-8197; fax number (817) 860-8263; or by e-mail: jew1@nrc.gov.

SUPPLEMENTARY INFORMATION:

I. Introduction

The U.S. Nuclear Regulatory Commission (NRC) is considering the issuance of a license amendment to Byproduct Material License No. 04-29022-01. This license is held by the United States Department of Commerce, National Oceanic and Atmospheric Administration, Southwest Fisheries Science Center (the Licensee). Issuance of the amendment would authorize release of the La Jolla Facility (the Facility) for unrestricted use and termination of the NRC license. The licensee requested this action in a letter dated February 27, 2007. The NRC has prepared an Environmental Assessment (EA) in support of this proposed action in accordance with the requirements of Title 10, Code of Federal Regulations (CFR), Part 51 (10 CFR part 51). Based on the EA, the NRC has concluded that a Finding of No Significant Impact (FONSI) is appropriate with respect to the proposed action. The amendment will be issued to the Licensee following the publication of this FONSI and EA in the Federal Register.

II. Environmental Assessment

Identification of Proposed Action

The proposed action would approve the Licensee's February 27, 2007, license amendment request, resulting in release of the Facility for unrestricted use and termination of its NRC materials license. License No. 04-29022-01 was issued on January 23, 1991, pursuant to 10 CFR part 30, and has been amended periodically since that time. The license authorized the Licensee to use unsealed byproduct material for laboratory tracer studies.

The license allowed the Licensee to use radioactive material at both the Southwest Fisheries Science Center and on any NOAA research ship (or any other ship with an agreement with NOAA) at temporary jobsites at sea. The Southwest Fisheries Science Center is located in a commercial area. Within the Facility, use of licensed materials was confined to one room in the building.

During 2005, the Licensee ceased licensed activities and initiated a survey and decontamination of the Facility. The license also required the Licensee to certify the decontamination of every research ship upon completion of each research project using radioactive material. Based on the Licensee's historical knowledge of the site and the conditions of the Facility, the Licensee determined that only routine decontamination activities, in accordance with their radiation safety procedures, were required. The Licensee was not required to submit a decommissioning plan to the NRC. The Licensee conducted surveys of the Facility and provided information to the NRC to demonstrate that it meets the criteria in Subpart E of 10 CFR part 20 for unrestricted release and license termination.

Need for the Proposed Action

The Licensee has ceased conducting licensed activities at the Facility and seeks the unrestricted use of its Facility and the termination of its NRC materials license. Termination of its license would end the Licensee's obligation to pay annual license fees to the NRC.

Environmental Impacts of the Proposed Action

The historical review of licensed activities conducted at the Facility shows that such activities involved the use of one radionuclide with a half-life of greater than 120 days: carbon-14. Prior to performing the final status survey, the Licensee conducted decontamination activities, as necessary, in the areas of the Facility affected by these radionuclides.

The Licensee conducted a final status survey during January 2007. This survey covered the remaining room (D-229) where radioactive material had been used and stored. The final status survey report was attached to the Licensee's amendment request dated February 27, 2007. The Licensee elected to demonstrate compliance with the radiological criteria for unrestricted release as specified in 10 CFR 20.1402 by using the screening approach described in NUREG-1757, “Consolidated NMSS Decommissioning Guidance,” Volume 2. The Licensee elected to use a fraction of the radionuclide-specific derived concentration guideline levels (DCGLs), developed by the NRC, which comply with the dose criterion in 10 CFR 20.1402. These DCGLs define the maximum amount of residual radioactivity on building surfaces, equipment, and materials and in soils that will satisfy the NRC requirements in Subpart E of 10 CFR part 20 for unrestricted release. The Licensee's final status survey results were below these DCGLs, and are thus acceptable.

Based on its review, the staff has determined that the affected environment and any environmental impacts associated with the proposed action are bounded by the impacts evaluated by the “Generic Environmental Impact Statement in Support of Rulemaking on Radiological Criteria for License Termination of NRC-Licensed Nuclear Facilities” (NUREG-1496) Volumes 1-3 (ML042310492, ML042320379, and ML042330385). Further, no incidents were recorded involving spills or releases of radioactive material at the Facility. Accordingly, there were no significant environmental impacts from the use of radioactive material at the Facility. The NRC staff reviewed the docket file records and the final status survey report to identify any non-radiological hazards that may have impacted the environment surrounding the Facility. No such hazards or impacts to the environment were identified.

The NRC staff finds that the proposed release of the Facility for unrestricted use and the termination of the NRC materials license is in compliance with 10 CFR 20.1402. The NRC has found no other activities in the area that could result in cumulative environmental impacts. Based on its review, the staff considered the impact of the residual radioactivity at the Facility and concluded that the proposed action will not have a significant effect on the quality of the human environment.

Environmental Impacts of the Alternatives to the Proposed Action

Alternatives to the proposed action discussed below are: (1) The no-action alternative; or (2) require the Licensee to take some alternate action.

1. No-action Alternative: As an alternative to the proposed action, the staff could leave things as they are by simply denying the amendment request. This no-action alternative is not feasible because it conflicts with 10 CFR 30.36(d), requiring that decommissioning of byproduct material facilities be completed and approved by the NRC after licensed activities cease. Additionally, this denial of the application would result in no change in current environmental impacts. The environmental impacts of the proposed action and the no-action alternative are therefore similar, and the no-action alternative is accordingly not further considered.

2. Environmental Impacts of Alternative 2: A second alternative to the proposed action would be to deny the Licensee's request and instead apply alternate release criteria pursuant to either 10 CFR 20.1403 (criteria for license termination under restricted release) or 10 CFR 20.1404 (alternate criteria for license termination). However, the NRC's analysis of the Licensee's final status survey data confirmed that the Facility meets the requirements of 10 CFR 20.1402 for unrestricted release. Accordingly, the NRC finds that choosing this second alternative to the proposed action is not reasonable, and this alternative is eliminated from further consideration.

Conclusion

The NRC staff has concluded that the proposed action is consistent with the NRC's unrestricted release criteria specified in 10 CFR 20.1402. Because the proposed action will not significantly impact the quality of the human environment, the NRC staff concludes that the proposed action is the preferred alternative.

Agencies and Persons Consulted

NRC provided a draft of this EA to the California Department of Health Services for review on August 22, 2007. No comments were received from the State of California.

The NRC staff has determined that the proposed action is of a procedural nature and will not affect listed species or critical habitat. Therefore, no further consultation is required under Section 7 of the Endangered Species Act. The NRC staff has also determined that the proposed action is not the type of activity that has the potential to cause effects on historic properties. Therefore, no further consultation is required under Section 106 of the National Historic Preservation Act.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application for license amendment and supporting documentation, are available electronically at the NRC's Electronic Reading Room at http://www.nrc.gov/reading-rm/adams.html. From this site, you can access the NRC's Agencywide Document Access and Management System (ADAMS), which provides text and image files of NRC's public documents. The documents related to this action are listed below, along with their ADAMS accession numbers.

1. Federal Register Notice, Volume 65, No. 114, page 37186, dated Tuesday, June 13, 2000, “Use of Screening Values to Demonstrate Compliance With The Federal Rule on Radiological Criteria for License Termination”;

2. Title 10 Code of Federal Regulations, Part 20, Subpart E, “Radiological Criteria for License Termination”;

3. Title 10, Code of Federal Regulations, Part 51, “Environmental Protection Regulations for Domestic Licensing and Related Regulatory Functions”;

4. NUREG-1496, “Generic Environmental Impact Statement in Support of Rulemaking on Radiological Criteria for License Termination of NRC-Licensed Nuclear Facilities,” July 1997 (ML042310492, ML042320379, and ML042330385);

5. NUREG-1757, Volume 1, “Consolidated NMSS Decommissioning Guidance,” Revision 2, September 2006 (ML063000243);

6. NUREG-1757, Volume 2, “Consolidated NMSS Decommissioning Guidance,” Revision 1, September 2006 (ML063000252);

7. Bartoo, Norm W., “NRC Radioactive Materials License #04-2902201” (Notification of Intent to Terminate License), January 11, 2007 (ML070390552); and

8. Fox, William W., “NRC Radioactive Materials License #04-29022-01” (Submission of Final Status Survey Report), February 27, 2007 (ML070710043).

If you do not have access to ADAMS, or if there are problems in accessing the documents located in ADAMS, contact the NRC Public Document Room (PDR) reference staff at 1-800-397-4209, 301-415-4737, or by e-mail to pdr@nrc.gov. These documents may also be viewed electronically on the public computers located at the NRC's PDR, O 1 F21, One White Flint North, 11555 Rockville Pike, Rockville, MD 20852. The PDR reproduction contractor will copy documents for a fee.

Dated at Region IV Office this 11th day of October 2007.
For the Nuclear Regulatory Commission.
Jack E. Whitten,
Chief, Nuclear Materials Safety Branch B, Division of Nuclear Materials Safety, Region IV.

[FR Doc. E7-20739 Filed 10-19-07; 8:45 am]

BILLING CODE 7590-01-P